ENVIRONMENTAL PROTECTION AGENCY

40 CFR Part 70

[EPA-R09-OAR-2011-0955; FRL-9724-2]

Revisions of Five California Clean Air Act Title V Operating Permits Programs

AGENCY: Environmental Protection Agency (EPA).

ACTION: Final rule.

SUMMARY: EPA is finalizing approval of revisions to the Operating Permits (Title V) programs of the Monterey Bay Unified Air Pollution Control District (MBUAPCD), San Luis Obispo County Air Pollution Control District (SLOCAPCD), Santa Barbara County Air Pollution Control District (SBCAPCD), South Coast Air Quality Management District (SCAQMD), and Ventura County Air Pollution Control District (VCAPCD). We proposed these program revisions in the Federal Register on March 21, 2012. These revisions require sources with the potential to emit (PTE) of greenhouse gases (GHGs) above the thresholds in EPA's Tailoring Rule, which have not been previously subject to Title V for other reasons, to obtain a Title V permit. See “Prevention of Significant Deterioration and Title V Greenhouse Gas Tailoring Rule; Final Rule,” (the Tailoring Rule) (75 FR 31514, June 3, 2010).

DATES: Effective Date: This rule is effective on October 5, 2012.

ADDRESSES: EPA has established docket number EPA-R09-OAR-2011-0955 for this action. Generally, documents in the docket for this action are available electronically at www.regulations.gov and in hard copy at EPA Region IX, 75 Hawthorne Street, San Francisco, California. Some docket materials, however, may be publicly available only at the hard copy location (e.g., voluminous records, maps, copyrighted material), and some may not be publicly available in either location (e.g., CBI). To inspect the hard copy materials, please schedule an appointment during normal business hours with the contact listed in the FOR FURTHER INFORMATION CONTACT section.

FOR FURTHER INFORMATION CONTACT: Roger Kohn, EPA Region IX, (415) 972-3973, kohn.roger@epa.gov.

SUPPLEMENTARY INFORMATION: Throughout this document, “we,” “us” and “our” refer to EPA.

Table of Contents

I. Proposed Action

II. Public Comments and EPA Responses

III. EPA's Final Action

IV. Statutory and Executive Order Reviews

I. Proposed Action

On March 21, 2012 (77 FR 16509), EPA proposed to approve the following rules as part of the five districts' title V operating permit programs.

Table 1—Submitted Rules
Local agency | Rule No. | Rule title | Adopted | Submitted
MBUAPCD | 218 | Title V: Federal Operating Permits | 11/17/10 | 11/7/11
SLOCAPCD | 216 | Federal Part 70 Operating Permits | 3/23/11 | 8/19/11
SBCAPCD | 1301 | Part 70 Operating Permits—General Information | 1/20/11 | 4/21/11
SCAQMD | 3000 | General | 11/5/10 | 11/5/10
| 3001 | Applicability
| 3002 | Requirements
| 3003 | Applications
| 3005 | Permit Revisions
| 3006 | Public Participation
VCAPCD | 33 | Part 70 Permits—General | 4/12/11 | 8/19/11
| 33.1 | Part 70 Permits—Definitions

We proposed to approve these rules because we determined that they complied with the relevant CAA requirements. Our proposed action contains more information on the rules and our evaluation.

II. Public Comments and EPA Responses

EPA's proposed action provided a 30-day public comment period. During this period, we did not receive any comments on our proposal.

III. EPA's Final Action

We did not receive any comments that change our assessment that the submitted rules are consistent with Title V of the Clean Air Act and 40 CFR part 70. Therefore EPA is approving these revisions to the five districts' title V operating permits programs.

IV. Statutory and Executive Order Reviews

Today's action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental effects with practical, appropriate, and legally permissible methods under Executive Order 12898 (59 FR 7629, February 16, 1994).In addition, this action does not have tribal implications as specified by Executive Order 13175 (65 FR 67249, November 9, 2000), because the action is not approved to apply in Indian country located in the State, and EPA notes that it will not impose substantial direct costs on tribal governments or preempt tribal law.

List of Subjects in 40 CFR Part 70

Environmental protection, Administrative practice and procedure, Air pollution control, Carbon dioxide, Carbon dioxide equivalents, Greenhouse gases, Hydrofluorocarbons, Intergovernmental relations, Methane, Nitrous oxide, Perfluorocarbons, Reporting and recordkeeping requirements, Sulfur hexafluoride.

Authority: 42 U.S.C. 7401 et seq.

Dated: August 16, 2012.
Alexis Strauss,
Acting Regional Administrator, Region IX.

Part 70, chapter I, title 40 of the Code of Federal Regulations is amended as follows:

PART 70—[AMENDED]

1. The authority citation for part 70 continues to read as follows:

Authority: 42 U.S.C. 7401 et seq.

2. Appendix A to Part 70 is amended by adding under “California” new paragraphs (r)(5), (z)(5), (aa)(5), (dd)(5), and (gg)(5) to read as follows:

APPENDIX A TO PART 70—APPROVAL STATUS OF STATE AND LOCAL OPERATING PERMITS PROGRAMS

* * * * *

California

* * * * *

(r) * * *

(5) Revisions were submitted on November 7, 2011. Approval became effective on October 5, 2012.

* * * * *

(z) * * *

(5) Revisions were submitted on August 19, 2011. Approval became effective on October 5, 2012.

* * * * *

(aa) * * *

(5) Revisions were submitted on April 21, 2011. Approval became effective on October 5, 2012.

* * * * *

(dd) * * *

(5) Revisions were submitted on November 5, 2010. Approval became effective on October 5, 2012.

* * * * *

(gg) * * *

(5) Revisions were submitted on August 19, 2011. Approval became effective on October 5, 2012.

* * * * *

[FR Doc. 2012-21683 Filed 9-4-12; 8:45 am]

BILLING CODE 6560-50-P